COMMITTEE FOR PURCHASE FROM PEOPLE WHO ARE BLIND OR SEVERELY DISABLED

Procurement List; Proposed Addition and Deletions

AGENCY: Committee for Purchase From People Who Are Blind or Severely Disabled.

ACTION: Proposed addition to and deletions from Procurement List.

SUMMARY: The Committee is proposing to add to the Procurement List, products to be furnished by nonprofit agencies employing persons who are blind or have other severe disabilities, and to delete products and services previously furnished by such agencies.

Comments Must be Received on or Before: May 30, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Addition

If the Committee approves the proposed addition, the entities of the Federal Government identified in this notice for each product will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List. Comments on this certification are invited. Commenters should identify the statement(s) underlying the certification on which they are providing additional information.

End of Certification

The following products are proposed for addition to Procurement List for production by the nonprofit agencies listed:

Products:

Product/NSN: Pre-moistened Disposable Cleaning Wipes, M.R. 572—Kitchen and Bath Wipes, M.R. 573—Glass Cleaning Wipes, M.R. 589—Wood Cleaning Wipes, M.R. 590—Microwave and Refrigerator Wipes, M.R. 591—Antibacterial Wipes.

NPA: Winston-Salem Industries for the Blind, Winston-Salem, North Carolina.

Contract Activity: Defense Commissary Agency (DeCA), Ft. Lee, Virginia.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products:

Product/NSN: Bag, Soiled Clothes, 8465-00-122-3869

NPA: None Currently Authorized.

Contract Activity: GSA, Southwest Supply Center, Fort Worth, Texas.

Product/NSN: Belt, Aircraft Safety, 1680-00-163-1570

NPA: Arizona Industries for the Blind, Phoenix, Arizona

Contract Activity: Defense Supply Center Richmond, Richmond, Virginia.

Product/NSN: Belt, Automobile, Safety, 2540-00-894-1273, 2540-00-894-1274, 2540-00-894-1275, 2540-00-894-1276.

NPA: Arizona Industries for the Blind, Phoenix, Arizona

Contract Activity: Defense Supply Center Columbus, Columbus, Ohio.

Product/NSN: Bookcase, Wood, Executive, 7110-00-973-5127.

NPA: None Currently Authorized

Contract Activity: GSA, National Furniture Center, Washington, DC.

Product/NSN: Books and Pamphlets (Program 1995-S), 7690-00-NSH-0088.

NPA: None Currently Authorized

Contract Activity: Government Printing Office, Washington, DC.

Product/NSN: Costumer, Wood, Executive, 7195-00-132-6642, 7195-01-368-4817, 7195-01-368-4818, 7195-01-368-4819, 7195-01-391-5136, 7195-01-459-9149, 7195-01-459-9150, 7195-01-459-9151, 7195-01-459-9152, 7195-01-459-9153, 7195-01-459-9154.

NPA: None Currently Authorized

Contract Activity: GSA, National Furniture Center, Washington, DC.

Product/NSN: Office Furniture—Tables, Wood, 7110-00-151-6485, 7110-00-177-4901, 7110-00-177-4902.

NPA: None Currently Authorized

Contract Activity: GSA, National Furniture Center, Washington, DC

Product/NSN: Office Furniture, 7110-00-194-1613—Bookcase, 7110-00-281-5689—Costumer, 7195-00-242-3503—Coat Rack.

NPA: None Currently Authorized

Contract Activity: GSA, National Furniture Center, Washington, DC.

Product/NSN: Short Run, Short Schedule Duplicating (Program 2979-S), 7690-00-NSH-0087.

NPA: None Currently Authorized

Contract Activity: Government Printing Office, Washington, DC.

Product/NSN: Stamp, Rubber 7520-00-NSH-0084, 7520-00-NSH-0085, 7520-00-NSH-0086.

NPA: None Currently Authorized

Contract Activity: Mountain Home Air Force Base, Idaho.

Product/NSN: Tarpaulin, Support Arm, 5815-01-108-9180.

NPA: None Currently Authorized

Contract Activity: Defense Supply Center Columbus, Columbus, Ohio.

Services:

Service Type/Location: Base Supply Center, U.S. Coast Guard Integrated Support Command, Kodiak, Alaska.

NPA: Raleigh Lions Clinic for the Blind, Inc., Raleigh, North Carolina.

Contract Activity: U.S. Coast Guard Integrated Support Command, Kodiak, Alaska.

Service Type/Location: Toner Cartridge Remanufacturing, Veterans Affairs Medical Center, Seattle, Washington.

NPA: Community Option Resource Enterprises, Inc., Billings, Montana

Contract Activity: Department of Veterans Affairs.

G. John Heyer,
General Counsel.

[FR Doc. 04-9839 Filed 4-29-04; 8:45 am]

BILLING CODE 6353-01-P